DEPARTMENT OF COMMERCE

National Oceanic and Atmospheric Administration

50 CFR Part 648

[Docket No. 040113012-4145-03; I.D. 121903D]

RIN 0648-AR62

Fisheries of the Northeastern United States; Summer Flounder, Scup, and Black Sea Bass Fisheries; Framework Adjustment 4; Correction

AGENCY: National Marine Fisheries Service (NMFS), National Oceanic and Atmospheric Administration (NOAA), Commerce.

ACTION: Final rule.

SUMMARY: NMFS published a final rule in the Federal Register on March 29, 2004, implementing measures contained in Framework Adjustment 4 (Framework 4) to the Summer Flounder, Scup, and Black Sea Bass Fishery Management Plan (FMP). Framework 4 allows for the transfer at sea of scup between commercial fishing vessels, subject to certain requirements.The final rule incorrectly identified a cross-reference. This rule corrects the cross-reference contained in the regulatory text of the final rule implementing Framework 4.

DATES: Effective April 28, 2004.

FOR FURTHER INFORMATION CONTACT: Paul Perra, Fishery Policy Analyst, (978) 281-

9153.

SUPPLEMENTARY INFORMATION: The final rule implementing measures contained in Framework 4 to the FMP was published in the Federal Register on March 29, 2004 (69 FR 16175). Section 648.6(a)(1) states, “ * * * Persons aboard vessels receiving transfers of scup at sea from other vessels are deemed not to be dealers, and are not required to possess a valid dealer permit under this section, for purposes of receiving scup, provided the vessel complies with section 648.13(2).” However, the cross reference cited is misspelled. It violates the sequence of paragraph designation according to the Office of the Federal Register, and it must be correctly spelled as § 648.13 (i)(2).

Classification

The Assistant Administrator for Fisheries, NOAA (AA), finds good cause to waive therequirement to provide prior notice and the opportunity for public comment pursuant to authority set forth at 5 U.S.C. 553(b)(B), because such procedures would be unnecessary. This rule makes minor non-substantive change by spelling correctly the reference cited at § 648.6(a)(1). The public was advised in the preamble to both the proposed and final rules of the applicability of the ten conditions relating to the transfer of scup at sea codified at § 648.13(i)(2). Without the correction, this discrepancy will continue to exist, thus leading to confusion.

Because prior notice and opportunity for public comment are not required for this rule by U.S.C. 553, or any other law, the analytical requirements of the regulatory Flexibility Act, 5 U.S.C. 601 et seq., are inapplicable. Accordingly, no regulatory flexibility analysis was required and none was prepared.

This final rule is exempt from review under Executive Order 12866.

List of Subjects in 50 CFR Part 648

Fishing, Fisheries, Reporting and recordkeeping requirements.

Dated: May 26, 2004.
William T. Hogarth,
Assistant Administrator for Fisheries, National Marine Fisheries Service.

Accordingly 50 CFR part 648 is corrected by making the following correcting amendment:

PART 648—FISHERIES OF THE NORTHEASTERN UNITED STATES

1. The authority citation for part 648 continues to read as follows:

Authority: 16 U.S.C. 1801 et seq.

§ 648.6 [Corrected]

2. In § 648.6(a)(1), in the last sentence, correct the reference “§ 648.13(2)” to read as “§ 648.13(i)(2).”

[FR Doc. 04-12355 Filed 5-28-04; 8:45 am]

BILLING CODE 3510-22-S